DEPARTMENT OF HEALTH AND HUMAN SERVICES

National Institutes of Health

Office of the Director, National Institutes of Health; Notice of Meeting

Notice is hereby given of a change to the meeting of the Advisory Committee to the Director, National Institutes of Health, that is being held on December 14, 2023, from 9:00 a.m. to 4:45 p.m., and December 15, 2023, from 9:00 a.m. to 2:45 p.m., National Institutes of Health, 9000 Rockville Pike, Building 1, Wilson Hall, One Center Drive, Bethesda, MD 20892, which was published in the Federal Register on November 17, 2023, FR Doc 2023- 25376, 88 FR 80320. This notice is being amended to inform the public that access to this meeting will be provided exclusively through live videocast. Individuals who plan to attend must do so virtually. The meeting can be accessed from the NIH Videocast at the following link: https://videocast.nih.gov/. The meeting date and time will remain the same.

Dated: December 1, 2023.
David W. Freeman,
Supervisory Program Analyst, Office of Federal Advisory Committee Policy.

[FR Doc. 2023-26776 Filed 12-5-23; 8:45 am]

BILLING CODE 4140-01-P